DEPARTMENT OF THE INTERIOR

Geological Survey

[GX19ED00CPN00; OMB Control Number 1028-0119]

Agency Information Collection Activities; Submission to the Office of Management and Budget for Review and Approval; Earth Explorer User Registration Service

AGENCY: U.S. Geological Survey, Interior.

ACTION: Notice of information collection; request for comment.

SUMMARY: In accordance with the Paperwork Reduction Act of 1995, we, the U.S. Geological Survey (USGS) are proposing to renew an information collection.

DATES: Interested persons are invited to submit comments on or before July 26, 2019.

ADDRESSES: Send written comments on this information collection request (ICR) to the Office of Management and Budget's Desk Officer for the Department of the Interior by email at OIRA_Submission@omb.eop.gov; or via facsimile to (202) 395-5806. Please provide a copy of your comments to USGS, Information Collections Clearance Officer, 12201Sunrise Valley Drive, MS 159, Reston, VA 20192; or by email to gs-info_collections@usgs.gov. Please reference OMB Control Number 1028-0119 in the subject line of your comments.

FOR FURTHER INFORMATION CONTACT: To request additional information about this ICR, contact Ryan Longhenry by email at rlonghenry@usgs.gov, or by telephone at 605-594-6179. You may also view the ICR at http://www.reginfo.gov/public/do/PRAMain.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

A Federal Register notice with a 60-day public comment period soliciting comments on this collection of information was published on April 1, 2019, 84 FR 12271. No comments were received.

We are again soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. Before including your address, phone number, email address, or other personal identifying information in your comment, you should be aware that your entire comment—including your personal identifying information—may be made publicly available at any time. While you may ask us in your comment to withhold your personal identifying information from public review, we cannot guarantee that we will be able to do so.

Abstract: The USGS proposes to collect general demographic information about public users that download products from the USGS using Earth Explorer (EE) application. This information is used to help address reports to Congress, OMB and DOI management with planning public uses of Landsat and other remote sensing data. The most common uses of these data are used to justify the maintenance and the free distribution of the USGS land remote sensing data. EE also stores information about users that download source code products, Global Visualization Viewer (GloVis) for example. The information collected in the database includes the names, affiliations, addresses, email address and telephone numbers of individuals. The information is gathered to facilitate the reporting of demographic data for use of the EE Application. Demographic data is also used to make decisions on future functional requirements within the system. Earth Explorer is a Web application that enables users to find, preview, and download or order digital data published by the U.S. Geological Survey. There are more than 300 USGS Datasets available from the site. To download or order products from EE, users must register with the EE system. The information is stored on an internal encrypted database. The data is provided by the customer and utilized to notify the customer of data ready for download. If downloads are unsuccessful, the customer is contacted to provide updated information. In addition, EE requires certain fields to be completed such as name, address, city and zip code before an account can be established and an order can be submitted. EE does not derive new data and does not create new data through aggregation. Personal information is not used as search criteria. Access to the information uses the least privileged access methodology. Authorized individuals with specifically granted access to the Privacy Act data can retrieve only by account number or order number Personal data is encrypted while stored in the Database.

Title of Collection: Earth Explorer User Registration Service.

OMB Control Number: 1028-0119.

Form Number: None.

Type of Review: Extension of a currently approved collection.

Respondents/Affected Public: Private individuals who have requested USGS products from USGS/Earth Explorer application are covered in this system.

Total Estimated Number of Annual Respondents: 84,000.

Total Estimated Number of Annual Responses: Approximately 84,000 on an annual basis.

Estimated Completion Time per Response: We estimate that it will take 2 minutes per response to submit the requested information.

Total Estimated Number of Annual Burden Hours: 2,800.

Respondent's Obligation: Required to obtain or retain a benefit.

Frequency of Collection: The information is collected at the time of registration and is only updated by the individual.

Total Estimated Annual Non-hour Burden Cost: None.

An agency may not conduct or sponsor and a person is not required to respond to a collection of information unless it displays a currently valid OMB control number.

The authority for this action is the Paperwork Reduction Act of 1995 (44 U.S.C. 3501, et seq.).

John Hahn,
USGS EROS Center Deputy Director.

[FR Doc. 2019-13597 Filed 6-25-19; 8:45 am]

BILLING CODE 4338-11-P